DEPARTMENT OF THE TREASURY

Alcohol and Tobacco Tax and Trade Bureau

27 CFR Part 9

[Notice No. 19]

RIN: 1513-AA59

Proposed Establishment of the Yamhill-Carlton District Viticultural Area (2002R-216P)

AGENCY: Alcohol and Tobacco Tax and Trade Bureau, Treasury.

ACTION: Notice of proposed rulemaking.

SUMMARY: The Alcohol and Tobacco Tax and Trade Bureau proposes to establish the “Yamhill-Carlton District” viticultural area in northwest Oregon. The proposed area is located within the approved Willamette Valley viticultural area. We designate viticultural areas to allow bottlers to better describe the origin of wines and allow consumers to better identify the wines they may purchase. We invite comments on this proposed addition to our regulations, particularly from bottlers who use brand names similar to “Yamhill-Carlton District.”

DATES: We must receive written comments on or before December 8, 2003.

ADDRESSES: You may send comments to any of the following addresses—

• Chief, Regulations and Procedures Division, Alcohol and Tobacco Tax and Trade Bureau, P.O. Box 50221, Washington, DC 20091-0221 (Attn: Notice No. 19);

• 202-927-8525 (facsimile);

• nprm@ttb.gov (e-mail);

• http://www.ttb.gov/alcohol/rules/index.htm. An online comment form is posted with this notice on our Web site.

You may view copies of this notice, the petition, the appropriate maps, and any comments received about this notice by appointment at our library, 1310 G Street NW., Washington, DC 20202; telephone 202-927-8210 for an appointment. You may also access copies of the notice and comments online at http://www.ttb.gov/alcohol/rules/index.htm.

See the Public Participation section of this notice for specific instructions and requirements for submitting comments and for information on how to request a public hearing.

FOR FURTHER INFORMATION CONTACT: N.A. Sutton, Specialist, Regulations and Procedures Division (Oregon), Alcohol and Tobacco Tax and Trade Bureau, 946 Northwest Circle Blvd., #286, Corvallis, OR 97330; telephone 415-271-1254.

SUPPLEMENTARY INFORMATION:

Homeland Security Act Impact on Rulemaking

Effective January 24, 2003, the Homeland Security Act of 2003 divided the Bureau of Alcohol, Tobacco and Firearms (ATF) into two new agencies, the Alcohol and Tobacco Tax and Trade Bureau (TTB) in the Department of the Treasury and the Bureau of Alcohol, Tobacco, Firearms and Explosives in the Department of Justice. Regulation of alcohol beverage labels, including viticultural area designations, is the responsibility of the new TTB. References to ATF in this document relate to events that occurred prior to January 24, 2003, or to functions that the Bureau of Alcohol, Tobacco, Firearms and Explosives continues to perform.

Background on Viticultural Areas

TTB Authority

The Federal Alcohol Administration Act (FAA Act) at 27 U.S.C. 205(e) requires that alcohol beverage labels provide the consumer with adequate information regarding a product's identity, while prohibiting the use of misleading information on such labels. The FAA Act also authorizes the Secretary of the Treasury to issue regulations to carry out the Act's provisions, and the Secretary has delegated this authority to the Alcohol and Tobacco Tax and Trade Bureau.

Regulations in 27 CFR Part 4, Labeling and Advertising of Wine, allow the establishment of definitive viticultural areas and the use of their names as appellations of origin on wine labels and in wine advertisements. Title 27 CFR Part 9, American Viticultural Areas, contains the list of approved viticultural areas.

Definition

Title 27 CFR 4.25(e)(1) defines an American viticultural area as a delimited grape-growing region distinguishable by geographic features whose boundaries have been delineated in subpart C of part 9. These designations allow consumers and vintners to attribute a given quality, reputation, or other characteristic of wine made from grapes grown in an area to its geographic origin.

Requirements

Section 4.25(e)(2) outlines the procedure for proposing an American viticultural area. Anyone interested may petition TTB to establish a grape-growing region as a viticultural area. The petition must include—

• Evidence that the proposed viticultural area is locally or nationally known by the name specified in the petition;

• Historical or current evidence that the boundaries of the proposed viticultural area are as specified in the petition;

• Evidence of growing conditions, such as climate, soils, elevation, physical features, etc., that distinguish the proposed area from surrounding areas;

• A description of the specific boundaries of the proposed viticultural area, based on features shown on United States Geological Survey (USGS) maps or USGS-approved maps; and

• Copies of the appropriate map(s) with the boundaries prominently marked.

Impact on Current Wine Labels

As appellations of origin, viticultural area names have geographic significance. Our 27 CFR part 4 label regulations prohibit the use of a brand name with geographic significance on a wine unless the wine meets the appellation of origin requirements for the named area. Our regulations also prohibit any other label references that suggest an origin other than the true place of origin of the wine.

If we establish this proposed viticultural area, bottlers who use brand names, including trademarks like Yamhill-Carlton District, must ensure that their existing products are eligible to use the viticultural area's name as an appellation of origin. For a wine to be eligible, at least 85 percent of the grapes in the wine must have been grown within the viticultural area, and the wine must meet the other requirements of 27 CFR 4.25(e)(3). If a wine is not eligible for the appellation, the bottler must change the brand name or other label reference and obtain approval of a new label.

Different rules apply to wines in this category that have brand names traceable to labels approved prior to July 7, 1986. See 27 CFR 4.39(i) for details. In addition, if you use the viticultural area name on a wine label in a context other than an appellation of origin, the general prohibitions against misleading representation in 27 CFR part 4 apply.

Yamhill-Carlton District Petition

General Background

We have received a petition from Alex Sokol-Blosser, Secretary of the North Willamette Valley AVA Group, and Ken Wright, on behalf of the winegrowers of the proposed Yamhill-Carlton District, proposing a new viticultural area to be called the “Yamhill-Carlton District.” The proposed viticultural area, which is limited to lands at or above 200 feet in elevation and below 1,000 feet in elevation, is wholly within Yamhill and Washington Counties and also falls within the approved boundaries of the Willamette Valley viticultural area in northwest Oregon. It is located approximately 35 miles southwest of Portland, Oregon, and 25 miles inland from the Pacific Ocean. It includes a total of 20,900 acres. However, when the acreage below 200 feet in elevation and above 1,000 feet in elevation is subtracted, the total acreage included in the proposed American viticultural area is 8,500 acres. The petitioner decided to use soil and elevation and, to a lesser extent, climate, as the primary factors in defining the boundaries of the proposed area. At the time of this proposal, 26 known vineyards exist in the proposed American viticultural area, with approximately 650 acres planted to grapes, with more added each year.

The petitioner's proposal is unusual in that the proposed boundaries encompass land that will not be part of the proposed viticultural area. Land below 200 feet and above 1,000 feet will be excluded due to soil and climate differences with land between those elevations. A precedent does exist for such a viticultural area. Within the boundaries of the Mendocino Ridge viticultural area, only land at or above the 1200-foot elevation is included in the viticultural area (See 27 CFR 9.158 and T.D. ATF-392 at 62 FR 55512, October 27,1997). However, because of the unusual nature of such boundaries, TTB is particularly interested in public comments on the proposed Yamhill-Carlton District boundaries. Specifically, does the evidence regarding elevation support the exclusion of some of the land lying within the proposed area's outer boundaries?

Name Evidence

The petitioner indicates the area is locally known as the Yamhill-Carlton District. The cities of Yamhill and Carlton, Oregon, are 3 miles apart, lie at the center of the proposed viticultural area, and have had strong ties throughout their histories. Both were incorporated over 100 years ago and have existed as separate cities since that time. The hyphenated expression of the cities' names has been used since 1853 with the establishment of the Yamhill-Carlton Pioneer Cemetery. Also, the Yamhill-Carlton Union High School has existed since the two high schools merged in 1955 and currently operates under supervision of the Yamhill-Carlton School District, which was formed in 1996. Further evidence of the ties between the two communities was a shared newspaper, the “Carlton-Yamhill Review.” The cities of Yamhill and Carlton, as well as the Yamhill-Carlton Pioneer Cemetery, are found within the boundaries of the USGS Carlton Quadrangle, 7.5 minute series, topographic map.

Boundary Evidence

The petitioner submitted evidence that is based primarily on soil and elevation, and to a lesser extent, climate, as factors in defining the boundaries of the proposed area, as well as historical information relating to viticultural activity. The petitioner describes the proposed Yamhill-Carlton District as a south-facing bowl containing a series of horseshoe-shaped, eroded hills, comprised of sedimentary parent material.

The western boundary of the proposed area is based on the change of the sedimentary soils from the volcanic soils of the coastal range of hills. The higher elevations of the coastal hills to the west, generally ranging from 1,000-2,000 feet, are much cooler than the proposed area and have proven unsuitable for the production of vinifera varietals. At the southwestern boundary, the almost purely sedimentary parent material of the proposed Yamhill-Carlton District changes to a mix of basalt, slate, and sedimentary material. The southern boundary transitions to valley floor that contains deep soil comprised of Willamette silts. The frost-prone nature of this lower elevation area, combined with its high permeability and fertility, make it unsuitable for production of quality vinifera grape varieties. Abbey and Kuehne Roads serve as the eastern border of the proposed area and mark the change of sedimentary parent material to volcanic soil of the Red Hills of Dundee, as well as highlight a natural drainage between the two areas.

Millican Creek drains along this boundary, flowing from north to south and eventually joining the Yamhill River near the town of Lafayette. The Chehalem Creek estuary is a vast drainage area that separates the proposed Yamhill-Carlton District from the Ribbon Ridge area (a spur of the Chehalem Mountains) to the east. While the two areas are both based on sedimentary material, the proposed Yamhill-Carlton District sedimentary soil is generally coarser in texture and subject to more faulting, uplifts, and erosion than the soils of Ribbon Ridge.

The Wapato Lake Bed serves as a large, low drainage area on the northeastern boundary of the proposed Yamhill-Carlton District, separating it from the Chehalem Mountains. The soils of these two areas are vastly different in that the proposed Yamhill-Carlton District is highly eroded sedimentary parent material while the Chehalem Mountains, which lie across the Wapato Lake Bed, are formed from wind-blown mixed material and overlying basalt. Finally, the northern border of the proposed area coincides with the vast low areas of Patton Valley with predominately wind-blown soil.

Regarding historical evidence, two vineyards can lay claim to being first planted in the proposed Yamhill-Carlton viticultural area. In 1974, Roy and Betty Wahle planted 8 acres of vinifera grapes comprised of Pinot Noir, Chardonnay, Riesling, and Gewurztraminer. That same year, Pat and Joe Campbell planted Elk Cove Vineyards, an 8-acre plot comprised of Pinot Noir and Chardonnay. The next significant era of planting occurred between 1989 and 1992. Doe Ridge Vineyard, McCrone Vineyard, Shea Vineyard, Stag Hollow Vineyard, and Willakenzie Estate combined to plant a total of 183 acres during this period.

The first commercial wine from the proposed Yamhill-Carlton area was the 1977 Elk Cove Estate Pinot Noir. As of the date of this petition, 10 commercial wineries operate within the boundaries of the proposed area.

Growing Conditions

Distinctive Geographic Features

The petitioner describes the proposed Yamhill-Carlton District viticultural area as a south-facing bowl consisting of a horseshoe-shaped series of highly eroded hills comprised of sedimentary parent material bordered by a high-elevation coastal range to the west, a cooler maritime-influenced area to the south, and natural lowland drainage areas to the east and north. The soils contained in the proposed Yamhill-Carlton District differ from those in surrounding areas either by basic rock or age of the parent material.

Soil

The petitioner states that the most significant feature that separates the proposed Yamhill-Carlton District from nearby grape-growing regions is the predominance of ancient sedimentary soils. He believes these soils impart distinct and unique characteristics to the fruit they grow. Wines made from grapes grown in these sedimentary soils often contain distinct aromatic flavors (coffee, cocoa, anis, cedar, tobacco) not found in wines made from the same variety of fruit grown in different soils. Also the wines made from grapes grown in these sedimentary soils are consistently lower in acidity than wines made from grapes grown in basaltic or wind-blown soils.

According to “The Roadside Geology of Oregon” (David Alt and Donald W. Hyndman), the soils of the proposed Yamhill-Carlton District, formed in the Eocene era, were derived from marine sediments and ocean floor volcanic basalt that have a high water-holding capacity with moderate to high erosion levels. A map prepared by Alan Campbell of NW Vineyards on the vineyard soils of Yamhill County shows that the western hills of the proposed Yamhill-Carlton District are comprised of two soils groups, Willakenzie on the lower elevation slopes and Peavine on the upper slopes. Peavine soils dominate the northern section of the proposed viticultural area, while the eastern slopes are comprised of Wellsdale and Willakenzie soil series. The petitioner states that the sedimentary soils of the proposed Yamhill-Carlton District are millions of years older than the soils in the surrounding areas.

By contrast, the petitioner states that the Eola Hills (south of the proposed Yamhill-Carlton District), Chehalem Mountains (north and east of the proposed Yamhill-Carlton District), and Red Hills (southeast of the proposed Yamhill-Carlton District) are dominated by volcanic-based soils formed in the Miocene Era. The Eola Hills area has predominately basalt soil series (Neika, Gelderman, Ritner) that are characterized by their low water capacity, slow permeability, and moderate erosion level. The Chehalem Mountains have a combination of Columbia River basalt, ocean sedimentation, and wind-blown loess derivation soil types. The Red Hills contain soil mainly derived from Columbia River basalt lavas (largely based on the Jory series), which are moderately fertile and well drained, with slight to moderate erosion levels.

The petition documentation also states the Ribbon Ridge area, which is immediately east of the proposed district, also contains primarily sedimentary soils. However, these were formed in the Oligocene Era and are younger, finer, and more uniform than the sedimentary soils of the proposed Yamhill-Carlton District.

Elevation

The petitioner defines the proposed Yamhill-Carlton District viticultural area as lands, within the proposed boundaries, that are at or above 200 feet in elevation and at or below 1,000 feet in elevation. The petitioner justifies the bracketed elevation with the following information. The floor of the proposed region is comprised of fine-grained soils deposited as a result of the Missoula floods, which occurred 12,000 years ago. These soils, identified as Willamette silts, occur at elevations below 200 feet and have greater depth, fertility, and water-holding capacity than soils of the proposed viticultural area. The fertility and water-holding capacity of these low soils extends the vegetative period of the vine and delays the ripening of vines planted in this area. Further, low elevation areas are also prone to frost. Conversely, areas within the proposed area with elevations greater than 1,000 feet are significantly cooler and lack necessary heat units required to properly ripen wine grapes. For these reasons, the proposed Yamhill-Carlton District viticultural area is limited to lands at or above 200 feet in elevation and below 1,000 feet in elevation.

Climate

The climate of the proposed Yamhill-Carlton District viticultural area is distinct from the surrounding areas in a number of ways. The area is bordered on the west by the Coast Mountains, which have far fewer degree-days (at 50° F) and are unsuitable for production of vinifera varietals. According to data obtained from the Oregon Climate Service, average rainfall for the proposed Yamhill-Carlton District is 42 inches, while the Coast Range receives between 80 and 110 inches per year. Further, the proposed Yamhill-Carlton District averages 18.3 days with temperatures above 90° F, while the Coast Range has 2 days.

The petitioner also submitted evidence that the areas immediately south of the proposed Yamhill-Carlton area are influenced by the cooling effect of weather systems flowing east from the Pacific Ocean through the Van Duzer Corridor, a mountain gap in the Coast Range. The corridor funnels cooling, marine, summer breezes inland toward Salem, which substantially lowers the average temperature achieved during the growing season.

However, the petitioner contends this effect quickly moderates as you move north through the proposed Yamhill-Carlton District from the Van Duzer Corridor entry into the Willamette Valley near Dallas, Oregon. For example, the petitioner submitted evidence from the Oregon Climate Service which demonstrated that the 30 year average rainfall for Dallas, Oregon (south of the proposed Yamhill-Carlton District) was 49.1 inches compared to 42 inches for the proposed viticultural area. Further, the Oregon Climate Service data on average temperatures shows that Dallas, Oregon has 51 fewer degree-days than McMinnville, Oregon (which is at the southern border of the proposed Yamhill-Carlton District) and 186 fewer degree-days than Forest Grove, Oregon (which lies 6 miles north of the proposed viticultural area).

The Patton Valley, a vast low area just north of the proposed Yamhill-Carlton District, has an annual rainfall average difference of slightly more than 2 inches when compared with the proposed viticultural area. However, the 30-year average temperature data from the Oregon Climate Service shows the area north of Patton Valley to have 135 more degree-days than the proposed Yamhill-Carlton District.

Boundary Description

See the narrative boundary description of the petitioned viticultural area in the proposed regulation published at the end of this notice.

Maps

The petitioner provided the required maps, and we list them in the proposed regulation.

Public Participation

Comments Sought

We request comments from anyone interested. Please support your comments with specific information about the proposed area's name, growing conditions, or boundaries. All comments must include this notice number and your name and mailing address. They must be legible and written in language acceptable for public disclosure.

Although we do not acknowledge receipt, we will consider your comments if we receive them on or before the closing date. We will consider comments received after the closing date if we can. We regard all comments as originals.

Confidentiality

We do not recognize any submitted material as confidential. All comments are part of the public record and subject to disclosure. Do not enclose in your comments any material you consider confidential or inappropriate for public disclosure.

Submitting Comments

You may submit comments in any of four ways.

• By mail: You may send written comments to TTB at the address listed in the ADDRESSES section.

• By facsimile: You may submit comments by facsimile transmission to 202-927-8525. Faxed comments must—

(1) Be on 8.5- by 11-inch paper;

(2) Contain a legible, written signature; and

(3) Be five or less pages long. This limitation assures electronic access to our equipment. We will not accept faxed comments that exceed five pages.

• By e-mail: You may e-mail comments to nprm@ttb.gov. Comments transmitted by electronic mail must—

(1) Contain your e-mail address;

(2) Reference this notice number on the subject line; and

(3) Be legible when printed on 8.5-by 11-inch paper.

• By online form: We provide a comment form with the online copy of this notice on our Web site at http://www.ttb.gov/alcohol/rules/index.htm. Select the “Send comments via email” link under this notice number.

You may also write to the Administrator before the comment closing date to ask for a public hearing. The Administrator reserves the right to determine, in light of all circumstances, whether a public hearing will be held.

Public Disclosure

You may view copies of this notice, the petition, the appropriate maps, and any comments received by appointment in our library at 1310 G Street NW., Washington, DC 20202. You may also obtain copies at 20 cents per 8.5- x 11-inch page. Contact our librarian at the above address or telephone 202-927-8210 to schedule an appointment or to request copies of comments.

For your convenience, we will post this notice and the comments received on the TTB Web site. We may omit voluminous attachments or material that we consider unsuitable for posting. In all cases, the full comment will be available in our library. To access the online copy of this notice, visit http://www.ttb.gov/alcohol/rules/index.htm. Select the “View Comments” link under this notice number to view the posted comments.

Regulatory Analyses and Notices

Paperwork Reduction Act

We propose no requirement to collect information. Therefore, the provisions of the Paperwork Reduction Act of 1995, 44 U.S.C. 3507, and its implementing regulations, 5 CFR part 1320, do not apply.

Regulatory Flexibility Act

We certify that this regulation, if adopted, will not have a significant economic impact on a substantial number of small entities, including small businesses. The proposal imposes no new reporting, recordkeeping, or other administrative requirements.

The establishment of viticultural areas represents neither our endorsement nor approval of the quality of wine made from grapes grown in the designated areas. Rather, this system allows us to identify areas distinct from one another. In turn, identifying viticultural areas lets wineries describe more accurately the origin of their wines to consumers and helps consumers identify the wines they purchase. Thus, any benefit derived from using a viticultural area name results from a proprietor's efforts and consumer acceptance of wines from that area. Therefore, no regulatory flexibility analysis is required.

Executive Order 12866

This proposed rule is not a “significant regulatory action” as defined by Executive Order 12866. Therefore, no regulatory assessment is required.

Drafting Information

Bernard J. Kipp of the Regulations and Procedures Division drafted this notice.

List of Subjects in 27 CFR Part 9

Wine.

Authority and Issuance

For the reasons discussed in the preamble, we propose to amend title 27, chapter 1, part 9, Code of Federal Regulations, as follows:

PART 9—AMERICAN VITICULTURAL AREAS

1. The authority citation for part 9 continues to read as follows:

Authority: 27 U.S.C. 205.

2. Amend subpart C by adding § 9._ to read as follows:

Subpart C—Approved American Viticultural Areas

* * * * *

§ 9._ Yamhill-Carlton District

(a) Name. The name of the viticultural area described in this section is “Yamhill-Carlton District'.

(b) Approved Maps. The appropriate maps for determining the boundary of the Yamhill-Carlton District viticultural area are eight 1:24,000 scale, United States Geological Survey, 7.5 Minute Series, topographic maps. They are titled:

(1) Gaston Quadrangle, Oregon, 1956, revised 1993;

(2) Turner Creek Quadrangle, Oregon, 1979;

(3) Fairdale Quadrangle, Oregon—Yamhill Co., 1979;

(4) Muddy Valley Quadrangle, Oregon—Yamhill Co., 1979, revised 1992;

(5) McMinnville Quadrangle, Oregon—Yamhill Co, 1957, revised 1992;

(6) Carlton Quadrangle, Oregon—Yamhill Co., 1957, revised 1992;

(7) Dundee Quadrangle, Oregon, 1956, revised 1993; and

(8) Laurelwood Quadrangle, Oregon, 1956, revised 1992.

(c) Boundary. The Yamhill-Carlton District viticultural area, which is limited to lands at or above 200 feet in elevation and below 1,000 feet in elevation, is located entirely in Yamhill and Washington Counties, Oregon, and also falls within the approved boundaries of the Willamette Valley viticultural area in northwest Oregon.

(1) The point of beginning is the intersection of State highway 47 and Gaston Road, which lies within the Gaston Quadrangle. From the point of beginning:

(2) Follow Gaston Road in a westerly direction approximately 0.10 mile to the intersection with the 200-foot elevation line;

(3) Follow the 200-foot elevation line in a westerly direction approximately 1.86 miles to a point at which the 200-foot elevation line crosses South Road for the fourth and final time;

(4) Follow South Road in a generally westerly direction approximately 1.90 miles to its second intersection with the Washington County/Yamhill County line. This point is 250 feet southeast of the first intersection of South and Mt. Richmond Roads;

(5) Follow the Washington County/Yamhill County line in a westerly direction approximately 2.12 miles to the western boundary of the Gaston Quadrangle/eastern boundary of the Turner Creek Quadrangle;

(6) From the eastern boundary of the Turner Creek Quadrangle, follow the Washington County/Yamhill County line in a westerly direction approximately 1.6 miles to the intersection of the County line and the 1,000-foot elevation line;

(7) Follow the 1,000-foot elevation line in a generally southeasterly, then generally westerly direction approximately 4.25 miles to the intersection of the 1,000-foot line and the Universal Transverse Mercator (UTM) line 4-77-000mE,

(8) Follow the UTM line 4-77-000mE due south approximately 2.98 miles to the intersection of the UTM line 4-77-000mE and the southern boundary of the Turner Creek Quadrangle/northern boundary of the Fairdale Quadrangle;

(9) Follow UTM line 4-77-000mE due south from the northern boundary of the Fairdale Quadrangle approximately 8.62 miles to the southern boundary of the Fairdale Quadrangle/northern boundary of the Muddy Valley Quadrangle;

(10) Follow UTM line 4-77-000mE due south from the northern boundary of the Muddy Valley Quadrangle approximately 1.51 miles to the intersection of UTM line 4-77-000mE and Baker Creek Road;

(11) Follow Baker Creek Road in a generally easterly direction approximately 0.76 miles to the intersection of Baker Creek Road and the 200-foot elevation line;

(12) Follow the 200-foot elevation line until it intersects the eastern boundary of the Muddy Valley Quadrangle/western boundary of the McMinnville Quadrangle;

(13) From the western boundary of the McMinnville Quadrangle continue to follow the same 200-foot elevation line in an easterly/northeasterly direction approximately 3.03 miles to the intersection of the 200-foot elevation line and northern boundary of the McMinnville Quadrangle/southern boundary of the Carlton Quadrangle;

(14) From the southern boundary of the Carlton Quadrangle, continue to follow the same 200-foot line in a generally northwesterly direction approximately 6.2 miles to the intersection of the 200-foot elevation line and the western boundary of the Carlton Quadrangle/eastern boundary of the Fairdale Quadrangle;

(15) From the eastern boundary of the Fairdale Quadrangle, continue to follow the same 200-foot elevation line in a generally westerly direction approximately 3.3 miles to the intersection of the 200-foot elevation line and the UTM line 4-77-000mE;

(16) Follow UTM line 44-77-000mE due north approximately 0.13 miles to the intersection of the UTM line 4-77-000mE and the same 200-foot elevation line;

(17) Follow the same 200-foot elevation line in a generally easterly direction on the north side of Panther Creek drainage approximately 5.04 miles to the intersection of the 200-foot line and the eastern boundary of the Fairdale Quadrangle/western boundary of the Carlton Quadrangle;

(18) Follow the same 200-foot elevation line in a generally easterly, then generally northerly direction approximately 21.61 miles to the upper northwest corner of the Carlton Quadrangle where the 200-foot elevation line intersects the western boundary of the Carlton Quadrangle/eastern boundary of the Fairdale Quadrangle;

(19) From the eastern boundary of the Fairdale Quadrangle, continue to follow the same 200-foot elevation line in a generally northwesterly, then easterly direction for approximately 0.23 miles to the intersection of the 200-foot elevation line and the eastern boundary of the Fairdale Quadrangle/western boundary of the Carlton Quadrangle;

(20) From the western boundary of the Carlton Quadrangle, continue to follow the same 200-foot elevation line in a generally easterly, then circular path approximately 0.45 miles back to the western boundary of the Carlton Quadrangle/eastern boundary of the Fairdale Quadrangle;

(21) From the eastern boundary of the Fairdale Quadrangle, continue to follow the same 200-foot elevation line in a generally westerly direction south of the North Yamhill River and then in a generally easterly direction north of the North Yamhill River approximately 1.04 miles to the intersection of the 200-foot elevation line and the eastern boundary of the Fairdale Quadrangle/western boundary of the Carlton Quadrangle;

(22) From the western boundary of the Carlton Quadrangle, continue to follow the same 200-foot elevation line in a generally southeasterly direction approximately 39.26 miles to the intersection of the 200-foot elevation line and the eastern boundary of the Carlton Quadrangle/western boundary of the Dundee Quadrangle;

(23) From the western boundary of the Dundee Quadrangle, continue to follow the same 200-foot elevation line in a generally southeasterly, then southwesterly direction approximately 1.1 miles to the intersection of the 200-foot elevation line and the western boundary of the Dundee Quadrangle/eastern boundary of the Carlton Quadrangle;

(24) From the eastern boundary of the Carlton Quadrangle, continue to follow the same 200-foot line in a generally southerly direction approximately 2.55 miles to the intersection of the 200-foot line and the eastern boundary of the Carlton Quadrangle/western boundary of the Dundee Quadrangle;

(25) From the western boundary of the Dundee Quadrangle, continue to follow the same 200-foot elevation line in a generally northeasterly direction approximately 2.65 miles to the intersection of the 200-foot elevation line and Abbey Road;

(26) Follow Abbey Road in a generally northerly direction approximately 1.7 miles to the intersection of Abbey and Kuehne Roads;

(27) Follow Kuehne Road in a generally northeasterly, then northerly direction approximately 1.85 miles to the intersection of Kuehne Road and State highway 240;

(28) Follow State highway 240 in an easterly direction approximately 0.19 miles to the intersection of State highway 240 and the 200-foot elevation line;

(29) Follow the 200-foot elevation line in a generally northerly direction along the west side of the Chehalem Creek approximately 4.52 miles to the intersection of the 200-foot elevation line and the northern boundary of the Dundee Quadrangle/southern boundary of the Laurelwood Quadrangle;

(30) From the southern boundary of the Laurelwood Quadrangle, continue to follow the same 200-foot elevation line in a short loop, approximately 0.42 miles, back to the southern boundary of the Laurelwood Quadrangle/northern boundary of the Dundee Quadrangle;

(31) From the northern boundary of the Dundee Quadrangle, continue to follow the same 200-foot elevation line in a generally southerly, then northerly direction approximately 0.57 miles to the intersection of the 200-foot elevation line and the northern boundary of the Dundee Quadrangle/southern boundary of the Laurelwood Quadrangle;

(32) From the southern boundary of the Laurelwood Quadrangle, continue to follow the same 200-foot elevation line in a generally northwesterly direction approximately 3.5 miles to the intersection of the 200-foot elevation line and the western boundary of the Laurelwood Quadrangle/eastern boundary of the Gaston Quadrangle;

(33) From the eastern boundary of the Gaston Quadrangle, continue to follow the same 200-foot elevation line in a generally westerly, then northeasterly direction approximately 0.52 miles to the intersection of the 200-foot elevation line and the eastern boundary of the Gaston Quadrangle/western boundary of the Laurelwood Quadrangle;

(34) From the western boundary of the Laurelwood Quadrangle, continue to follow the same 200-foot elevation line in a generally northerly direction approximately 0.96 miles to the intersection of the 200-foot elevation line and the western boundary of the Laurelwood Quadrangle/eastern boundary of the Gaston Quadrangle; and

(35) From the eastern boundary of the Gaston Quadrangle, continue to follow the same 200-foot elevation line in a generally northwesterly direction approximately 4.55 miles to the intersection of the 200-foot elevation line and the point of beginning.

Signed: September 17, 2003.
Arthur J. Libertucci,
Administrator.

[FR Doc. 03-25373 Filed 10-6-03; 8:45 am]

BILLING CODE 4810-31-P